COMMITTEE FOR PURCHASE FROM PEOPLE WHO ARE BLIND OR SEVERELY DISABLED

Procurement List; Additions

AGENCY: Committee for Purchase from People Who Are Blind or Severely Disabled.

ACTION: Additions to Procurement List.

SUMMARY: This action adds to the Procurement List services to be furnished by nonprofit agencies employing persons who are blind or have other severe disabilities.

EFFECTIVE DATE: June 2, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: On January 4, February 15, March 1, and March 8, 2002, the Committee for Purchase From People Who Are Blind or Severely Disabled published notice (67 FR 556, 7130, 9436, and 10663) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the services to the Government.

2. The action will not have a severe economic impact on current contractors for the services.

3. The action will result in authorizing small entities to furnish the commodities and services.

4. There are no known regulatory alternatives which would accomplish the objectives of the Javits-Wagner-O'Day Act (41 U.S.C. 46-48c) in connection with the services proposed for addition to the Procurement List.

Accordingly, the following services are added to the Procurement List:

Services

Service Type/Location: Central Facility Management, Interstate Commerce Commission, Washington, DC.

NPA: The Chimes, Inc., Baltimore, MD.

Contract Activity: GSA, Public Buildings Service.

Service Type/Location: Central Facility Management, U.S. Customs Building, Washington, DC.

NPA: The Chimes, Inc., Baltimore, MD.

Contract Activity: GSA, Public Buildings Service.

Service Type/Location: Central Facility Management, Connecting Wing-U.S. Customs Building, Washington, DC.

NPA: The Chimes, Inc., Baltimore, MD.

Contract Activity: GSA, Public Buildings Service.

Service Type/Location: Hospital Housekeeping Services, Great Lakes Naval Hospital, Great Lakes, IL.

NPA: Relief Enterprise, Inc., Austin, TX.

Contract Activity: Great Lakes Naval Hospital, Department of the Navy.

Service Type/Location: Janitorial/Custodial, Randolph Air Force Base, Buildings 592 and 575, Randolph AFB, TX.

NPA: Relief Enterprise, Inc., Austin, TX.

Contract Activity: Randolph Air Force Base, Department of the Air Force.

Service Type/Location: Janitorial/Custodial, U.S. Army Reserve Center, Galax, VA.

NPA: Mount Rogers Community MH-MR Services Board, Wytheville, VA.

Contract Activity: Department of the Army.

Service Type/Location: Janitorial/Custodial, U.S. Army Reserve Center, Marion, VA.

NPA: Mount Rogers Community MH-MR Services Board, Wytheville, VA.

Contract Activity: Department of the Army.

This action does not affect current contracts awarded prior to the effective date of this addition or options that may be exercised under those contracts.

Sheryl D. Kennerly,
Director, Information Management.

[FR Doc. 02-11014 Filed 5-2-02; 8:45 am]

BILLING CODE 6353-01-P